DEPARTMENT OF TRANSPORTATION

Federal Aviation Administration

14 CFR Part 39

[Docket No. FAA-2005-22631; Directorate Identifier 2005-NM-183-AD; Amendment 39-14394; AD 2005-25-01]

RIN 2120-AA64

Airworthiness Directives; Empresa Brasileira de Aeronautica S.A. (EMBRAER) Model EMB-120, -120ER, -120FC, -120QC, and -120RT Airplanes

AGENCY: Federal Aviation Administration (FAA), Department of Transportation (DOT).

ACTION: Final rule; correction.

SUMMARY: The FAA is correcting a typographical error in an existing airworthiness directive (AD) that was published in the Federal Register on December 5, 2005 (70 FR 72366). The error resulted in an incorrect telephone number for the FAA's point of contact. This AD applies to all EMBRAER Model EMB-120, -120ER, -120FC, -120QC, and -120RT airplanes. This AD requires modifying electrical harnesses located at the left- and right-hand wing roots, and re-routing and modifying the harness of the right-hand outboard flap actuator.

DATES: Effective January 9, 2006.

ADDRESSES: The AD docket contains the proposed AD, comments, and any final disposition. You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-22631; the directorate identifier for this docket is 2005-NM-183-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: On November 25, 2005, the FAA issued AD 2005-25-01, amendment 39-14394 (70 FR 72366, December 5, 2005), for all EMBRAER Model EMB-120, -120ER, -120FC, -120QC, and -120RT airplanes. The AD requires modifying electrical harnesses located at the left- and right-hand wing roots, and re-routing and modifying the harness of the right-hand outboard flap actuator.

As published, the AD provides an incorrect telephone number for the FAA's point of contact.

No part of the regulatory information has been changed; therefore, the final rule is not republished in the Federal Register.

The effective date of this AD remains January 9, 2006.

In the Federal Register of December 5, 2005, on page 72366, in the third column, the FOR FURTHER INFORMATION CONTACT paragraph of AD 2005-25-01 is corrected to read as follows:

“FOR FURTHER INFORMATION CONTACT: Dan Rodina, Aerospace Engineer, International Branch, ANM-116, FAA, Transport Airplane Directorate, 1601 Lind Avenue, SW., Renton, Washington 98055-4056; telephone (425) 227-2125; fax (425) 227-1149.”

EFFECTIVE DATE: The effective date of this AD remains January 9, 2006.

Issued in Renton, Washington, on December 27, 2005.
Ali Bahrami,
Manager, Transport Airplane Directorate, Aircraft Certification Service.

[FR Doc. 06-17 Filed 1-3-06; 8:45 am]

BILLING CODE 4910-13-P